DEPARTMENT OF HEALTH AND HUMAN SERVICES

Health Resources and Services Administration

Agency Information Collection Activities: Proposed Collection: Public Comment Request; Information Collection Request Title: DATA 2000 Waiver Training Payment Program Application for Payment, OMB No. 0906-XXXX—New

AGENCY: Health Resources and Services Administration (HRSA), Department of Health and Human Services.

ACTION: Notice.

SUMMARY: In compliance with the requirement for opportunity for public comment on proposed data collection projects, as required by the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than December 7, 2020.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: DATA 2000 Waiver Training Payment Program Application for Payment, OMB No. 0906-XXXX—New.

Abstract: The Substance Use—Disorder Prevention that Promotes Opioid Recovery and Treatment (SUPPORT) for Patients and Communities Act (Pub. L. 115-271), section 6083, added sections 1833(bb) and 1834(o)(3) of the Social Security Act (42 U.S.C. 1395l and 42 U.S.C. 1395m(o)(3)), requiring the Secretary to make payments to Federally Qualified Health Centers (FQHC) and Rural Health Clinics (RHC) to pay the average training costs of eligible physicians and practitioners who obtain Drug Addiction Treatment Act of 2000 (DATA 2000) waivers to furnish opioid use disorder treatment services. To receive payment, FQHCs and RHCs must submit an application to the Secretary. In order to provide HRSA with information necessary for validation and issuance of accurate payments, the form will require that FQHCs and RHCs provide information identifying the submitting organization, including FQHC or RHC Employer/Tax Identification Number, mailing address, telephone number, email address, Congressional District number, and, if applicable, the facility CMS Certification Number (CCN) and mailing address associated with the CCN. The form also will require the FQHC or RHC to include information regarding each claimed practitioner's name, physician or practitioner type (e.g., physician, physician assistant, nurse practitioner, certified nurse midwife, clinical nurse specialist, certified registered nurse, or anesthetist), National Provider Identifier (NPI) number, Drug Enforcement Administration (DEA) number, state medical license number, length of training, date the training was completed, date of waiver attainment, and DATA 2000 waiver number. Additionally, the form will require the applicant to sign an attestation statement certifying that (1) each practitioner for which the entity is seeking payment under the application is employed by or working under contract for this facility, (2) it is the first time the entity is seeking payment on behalf of the listed practitioner(s), (3) the entity is eligible to seek payment under 42 U.S.C. 1395m(o)(3) or 42 U.S.C. 1395l(bb), (4) each practitioner is furnishing opioid use disorder treatment services, and (5) that the statements herein are true, complete, and accurate to the best of the applicant's knowledge.

Need and Proposed Use of the Information: The SUPPORT for Patients and Communities Act requires FQHCs and RHCs to submit to the Secretary an application for payment at such time, in such manner, and containing such information as specified by the Secretary in order to receive a payment under section 6083. This form will allow FQHCs and RHCs to apply for such payments based on the average cost of training to obtain DATA 2000 waivers, as determined by the Secretary, for their physicians and practitioners to furnish opioid use disorder treatment services. The form will also provide HRSA with the requisite data to validate qualifying DATA 2000 waiver possessions for the purpose of ensuring accurate payments to FQHCs and RHCs.

Likely Respondents: Only FQHCs and RHCs are eligible to apply.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
DATA 2000 Waiver Training Payment Program Application for Payment | 1,137 | 1 | 1,137 | 0.5 | 568.5
Total | 1,137 |  | 1,137 |  | 568.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2020-22079 Filed 10-5-20; 8:45 am]

BILLING CODE 4165-15-P